ENVIRONMENTAL PROTECTION AGENCY

[FRL-8940-5]

Clean Water Act Section 303(d): Availability of 8 Total Maximum Daily Loads (TMDLs) for Arkansas

AGENCY: Environmental Protection Agency (EPA).

ACTION: Notice of availability.

SUMMARY: This notice announces the availability of the administrative record file for comment on 8 TMDLs and the calculations for these TMDLs prepared by EPA Region 6 for waters listed in the State of Arkansas under Section 303(d) of the Clean Water Act (CWA).

DATES: Comments must be submitted in writing to EPA on or before September 11, 2009.

ADDRESSES: Comments on the 8 TMDLs should be sent to Ms. Diane Smith, Environmental Protection Specialist, Water Quality Protection Division, U.S. Environmental Protection Agency Region 6, 1445 Ross Ave., Dallas, TX 75202-2733, facsimile (214) 665-7373, or e-mail: smith.diane@epa.gov. For further information, contact Diane Smith at (214) 665-2145. Documents from the administrative record file for these TMDLs are available for public inspection at this address as well. Documents from the administrative record file may be viewed at http://www.epa.gov/region6/water/npdes/tmdl/index.htm, or obtained by calling (214) 665-2145 or writing Ms. Smith at the above address. Please contact Ms. Smith to schedule an inspection.

FOR FURTHER INFORMATION CONTACT: Diane Smith at (214) 665-2145.

SUPPLEMENTARY INFORMATION:

EPA Seeks Comments on 8 TMDLs

By this notice EPA is seeking comment on the following 8 TMDLs for waters located within the State of Arkansas:

Segment-Reach | Waterbody name | Pollutant
08020301-010 | Cypress Bayou | Fecal coliform and E. coli.
08020301-011 | Cypress Bayou | Fecal coliform and E. coli.
08020301-012 | Cypress Bayou | Fecal coliform and E. coli.
11110103-029 | Clear Creek | Fecal coliform and E. coli.

EPA requests that the public provide EPA with any water quality related data and information that may be relevant to the calculations for these 8 TMDLs. EPA will review all data and information submitted during the public comment period and revise the TMDLs where appropriate. EPA will then forward the TMDLs to the Arkansas Department of Environmental Quality (ADEQ). The ADEQ will incorporate the TMDLs into its current water quality management plan.

Dated: July 28, 2009.
Bill Luthans,
Acting Director, Water Quality Protection Division, Region 6.

[FR Doc. E9-19319 Filed 8-11-09; 8:45 am]

BILLING CODE 6560-50-P